ENVIRONMENTAL PROTECTION AGENCY

[FRL-6969-1]

Clean Air Act Federal Operating Permit Program; Notice of Final Permit Actions for Federal Operating Permits

AGENCY: Environmental Protection Agency (EPA).

ACTION: Notice of approval of final Clean Air Act Title V Federal operating permits.

SUMMARY: Notice is hereby given that the Environmental Protection Agency, Region VIII issued Clean Air Act Title V federal operating permits to applicants located on the following reservations:

Southern Ute Indian Reservation

BP Amoco, Inc.

(1) Four Queens Central Facility Gas Compressor Station, #V-SU-0008-00.00;

(2) Salvador I/II Central Facility Gas Compressor Station, #V-SU-0009-00.00; Issue date March 27, 2000.

Coyote Gas Treating, LLC

Coyote Gulch Gas Treating Plant, #V-SU-0012-00.00; Issue date March 27, 2000.

Red Cedar Gathering Company

(1) Arkansas Loop Gas Plant, #V-SU-0010-00.00; Issue date March 27, 2000.

(2) Sidewinder Compressor Station, #V-SU-0015-00.00; Issue date January 8, 2001.

(3) Capote Compressor Station, #V-SU-0016-00.00; Issue date October 20, 2000.

(4) Diamondback Compressor Station, #V-SU-0018-00.00; Issue date January 8, 2001.

(5) Bondad Compressor Station, #V-SU-0011-00.00; Issue date March 7, 2001.

Vastar Resources, Inc.

(1) Treating Site #1 Compressor Station, #V-SU-0001-00.00;

(2) Treating Site #2 Compressor Station, #V-SU-0002-00.00;

(3) Treating Site #4 Compressor Station, #V-SU-0003-00.00;

(4) Treating Site #5 Compressor Station, #V-SU-0004-00.00;

(5) Treating Site #6 Compressor Station, #V-SU-0005-00.00;

(6) Treating Site #7 Compressor Station, #V-SU-0006-00.00;

(7) Treating Site #9 Compressor Station, #V-SU-0007-00.00; Issue date March 27, 2000.

(8) Treating Site #6B Compressor Station, #V-SU-0024-00.00;

(9) Treating Site #7B Compressor Station, #V-SU-0025-00.00;

(10) Treating Site #8 Compressor Station, #V-SU-0026-00.00; Issue date September 18, 2000.

Public Service Company

Tiffany Compressor Station, #V-SU-0023-00.00; Issue date November 22, 2000.

Fort Peck Indian Reservation

Northern Border Pipeline Company

Compressor Station #2, #V-FP-0001-00.00; Issue date July 31, 2000.

Uintah & Ouray Indian Reservation

Questar Pipeline Company

Fidlar Compressor Station, #V-OU-0002-00.00; Issue date October 20, 2000.

Colorado Interstate Gas Company

Natural Buttes Compressor Station, #V-OU-0003-00.00; Issue date February 7, 2001.

ADDRESSES: Copies of the final permits, statements of basis, and all other supporting information are on file at the: U.S. Environmental Protection Agency, Region VIII, Air and Radiation Program, 999 18th Street—Suite 300, Denver, Colorado 80202. All documents will be available for review at the U.S. EPA Region VIII office Monday through Friday from 8:00 a.m to 4:30 p.m. (excluding federal holidays).

FOR FURTHER INFORMATION CONTACT: Monica Morales, Air Technical Assistance Unit, EPA Region VIII, telephone (303) 312-6936, e-mail morales.monica@epa.gov.

SUPPLEMENTARY INFORMATION: The Title V permit program does not impose new substantive requirements on an air pollution source but does require that sources subject to the federal operating permit program obtain a renewable operating permit that clarifies which air quality requirements apply to the source and provides methods for assessing the source's compliance with those requirements.

Because the issuance of a Federal Operating Permit has been delegated to the Regional Administrator, judicial review of a final operating permit under section 307(b)(1) of the Clean Air Act may be sought only by the filing of a petition for review in the United States Court of Appeals for the appropriate regional circuit within 60 days from the date on which this notice is published in the Federal Register. A petition for review must be filed by June 25, 2001.

Dated: April 13, 2001.
Carol Rushin,
Acting Regional Administrator, Region VIII.

[FR Doc. 01-10431 Filed 4-25-01; 8:45 am]

BILLING CODE 6560-50-P